FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 22, 2011.

A. Federal Reserve Bank of Chicago (Colette A. Fried, Assistant Vice President) 230 South LaSalle Street, Chicago, Illinois 60690-1414:

1. Carl E. Stukenholtz, Perry, Iowa, individually, and acting in concert with James E. Wendl, Trustee of the James Wendl Revocable Trust; Carol A. Wendl, Trustee of the Carol Wendl Revocable Trust, both of Panora, Iowa; Brian L. Thielges; and Mary R. Thielges, both of Des Moines, Iowa; to acquire control of Exchange Financial, Inc., and thereby indirectly acquire control of Exchange State Bank, both in Adair, Iowa.

B. Federal Reserve Bank of Kansas City (Dennis Denney, Assistant Vice President) 1 Memorial Drive, Kansas City, Missouri 64198-0001:

1. Dale Mitchell Ashlock, Gravois Mills, Missouri; Donald Kinahan Ashlock, Olathe, Kansas; and Pershing LLC, Jersey City, New Jersey; to become part of the group acting in concert to acquire control of First Federal of Olathe Bancorp., Inc., and thereby indirectly acquire control of First Federal Savings and Loan Bank, both in Olathe, Kansas.

Board of Governors of the Federal Reserve System, December 2, 2011.
Robert deV. Frierson,
Deputy Secretary of the Board.

[FR Doc. 2011-31368 Filed 12-6-11; 8:45 am]

BILLING CODE 6210-01-P